DEPARTMENT OF DEFENSE

GENERAL SERVICES ADMINISTRATION

NATIONAL AERONAUTICS AND SPACE ADMINISTRATION

48 CFR Chapter 1

[Docket No. FAR-2023-0051, Sequence No. 4]

Federal Acquisition Regulation; Federal Acquisition Circular 2023-05; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2023-05. A companion document, the Small Entity Compliance Guide (SECG), follows this FAC.

DATES: For effective dates see the separate documents, which follow.

ADDRESSES: The FAC, including the SECG, is available at https://www.regulations.gov.

FOR FURTHER INFORMATION CONTACT: The analyst whose name appears in the table below in relation to the FAR case. For information pertaining to status or publication schedules, contact the Regulatory Secretariat Division at 202-501-4755 or GSARegSec@gsa.gov.

Rules Listed in FAC 2023-05
Item | Subject | FAR case | Analyst
I | Use of Acquisition 360 to Encourage Vendor Feedback | 2017-014 | Delgado.
II | Small Disadvantaged Business Threshold | 2023-004 | Moore.
III | Update to ASSIST Database References | 2022-008 | Moore.
IV | Technical Amendments. |  |

SUPPLEMENTARY INFORMATION: Summaries for each FAR rule follow. For the actual revisions and/or amendments made by these FAR rules, refer to the specific item numbers and subjects set forth in the documents following these item summaries. FAC 2023-05 amends the FAR as follows:

Item I—Use of Acquisition 360 To Encourage Vendor Feedback (FAR Case 2017-014)

This final rule amends the FAR to implement the Acquisition 360 Survey tool, a voluntary online survey to elicit industry feedback on the preaward and debriefing processes in a consistent and standardized manner. Contracting officers may insert the provision into solicitations in accordance with agency procedures. However, because it is voluntary, the impact on offerors or contractors is expected to be minimal.

Item II—Small Disadvantaged Business Threshold (FAR Case 2023-004)

This final rule amends the FAR to update the net worth threshold for the owners of small disadvantaged business concerns to align with SBA's regulations, and updates obsolete FAR citations to certain SBA regulations.

Item III—Update to ASSIST Database References (FAR Case 2022-008)

This final rule amends the FAR to update obsolete contact information, web addresses, and office titles necessary to obtain Federal and Defense specifications and standards from the DoD Acquisition Streamlining and Standardization Information System (ASSIST) website or, for Defense documents not available in ASSIST, from the Defense Standardization Program Office. These updates will ensure offerors have the most current information with which to obtain both Federal and Defense specifications and standards that are referenced in an agency's solicitation. The final rule will not have a significant economic impact on a substantial number of small entities because it simply updates contact information, web addresses and office titles in existing regulations.

Item IV—Technical Amendments

Administrative change is made at FAR 52.212-3.

William F. Clark,

Director, Office of Government-wide Acquisition Policy, Office of Acquisition Policy, Office of Government-wide Policy.

Federal Acquisition Circular (FAC) 2023-05 is issued under the authority of the Secretary of Defense, the Administrator of General Services, and the Administrator of National Aeronautics and Space Administration.

Unless otherwise specified, all Federal Acquisition Regulation (FAR) and other directive material contained in FAC 2023-05 is effective August 8, 2023 except for Item I, which is effective September 22, 2023, and Items II, III, and IV, which are effective September 7, 2023.

John M. Tenaglia,
Principal Director, Defense Pricing and Contracting, Department of Defense.
Jeffrey A. Koses,
Senior Procurement Executive/Deputy CAO, Office of Acquisition Policy, U.S. General Services Administration.
Karla Smith Jackson,
Assistant Administrator for Procurement, Senior Procurement Executive/Deputy CAO, National Aeronautics and Space Administration.

[FR Doc. 2023-16657 Filed 8-7-23; 8:45 am]

BILLING CODE 6820-EP-P